DEPARTMENT OF TRANSPORTATION

Federal Highway Administration

Environmental Impact Statement: Prince George, Sussex, Surry, Southampton and Isle of Wight Counties, and the City of Suffolk, VA

AGENCY: Federal Highway Administration (FHWA), DOT.

ACTION: Notice of intent.

SUMMARY: The FHWA is issuing this notice to advise the public that an environmental impact statement (EIS) will be prepared for proposed highway improvements in the U.S. Route 460 corridor from I-295 near Petersburg to the City of Suffolk in Virginia.

FOR FURTHER INFORMATION CONTACT: Kenneth R. Myers, Planning & Environmental Program Manager, Federal Highway Administration, PO Box 10249, Richmond, Virginia 23240-0249. Telephone: (804)775-3353.

SUPPLEMENTARY INFORMATION: The FHWA, in cooperation with the Virginia Department of Transportation (VDOT), will prepare an environmental impact statement on the proposed transportation improvements to the Route 460 corridor from the intersection of Routes 460 and I-295 in Prince George County near Petersburg to the interchange of Routes 460 and 58 along the Suffolk Bypass. The study area for the proposed corridor improvements would be approximately 10 miles in width and 50 miles in length. Alternatives under consideration include: (1) Taking no action (no-build); (2) transportation system management alternative, which would provide, to the extent possible, safety upgrades to the existing alignment, signalization improvements, intersection improvements, intelligent transportation system (ITS) technologies, and access management techniques; (3) a mass transit alternative which, to the extent feasible, will evaluate commuter rail, light rail, express bus and bus rapid transit options and, (4) alternative corridor alignment build alternatives which will include new location freeway alternatives, and one alternative along existing 460 with the option for bypasses around several towns along the route.

The FHWA and VDOT are seeking input as a part of the scoping process to assist in determining and clarifying issues relative to this project. Letters describing the proposed action and soliciting comments will be sent by the VDOT to appropriate Federal, State, and local agencies, and to private organizations and other interested parties as part of the scoping effort. Scoping meetings are being planned and will be announced by VDOT when schedules have been confirmed. Early coordination with State and Federal permit and resource agencies has been initiated and will continue through the development of the EIS. The Corps of Engineers, the Environmental Protection Agency and the Fish and Wildlife Service are being requested to be cooperating agencies. At least one location public hearing will be held for which public notice will be given of the time and place. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: June 26, 2003.
Kenneth R. Myers,
Planning & Environmental Program Manager.

[FR Doc. 03-16695 Filed 7-1-03; 8:45 am]

BILLING CODE 4910-22-P